POSTAL SERVICE

39 CFR Part 111

Amendments to Proposed Domestic Mail Manual Changes for Sacking and Palletizing Periodicals Nonletters and Standard Mail (A) Flats, for Traying First-Class Flats, and for Labeling Pallets

AGENCY: Postal Service.

ACTION: Proposed Rule; Amendment.

SUMMARY: This rule sets forth amendments to the proposed rule published in the Federal Register issue of February 29, 2000 (65 FR 10735). The Postal Service has determined to add a 5-digit scheme carrier routes sack and a 5-digit scheme carrier routes pallet to the proposed presort rules published in the aforementioned Federal Register.

Dates: Comments to this proposed rule amendment and to the proposed rule published February 29, 2000 (65 FR 10735) must be received on or before April 14, 2000.

ADDRESSES: Mail or deliver written comments to the Manager, Mail Preparation and Standards, USPS Headquarters, 475 L'Enfant Plaza SW, Room 6800, Washington, DC 20260-2413. Copies of all written comments will be available for inspection and photocopying between 9 a.m. and 4 p.m., Monday through Friday at the Postal Service Library, 475 L'Enfant Plaza SW, Room 11-N, Washington DC.

FOR FURTHER INFORMATION CONTACT: Lynn Martin, (202) 268-6351, or Linda Kingsley, (202) 268-2252.

SUPPLEMENTARY INFORMATION: On February 29, 2000, the Postal Service published a proposed rule in the Federal Register (65 FR 10735). This proposed rule set forth, along with other proposed Domestic Mail Manual (DMM) changes, the addition of new DMM section M720. This proposed DMM M720, if adopted, will allow mailers to place carrier route, 5-digit automation rate, and 5-digit Presorted rate packages of Periodicals and Standard Mail (A) in the same 5-digit container. The new 5-digit containers are named “merged 5-digit” and if scheme sortation is opted by the mailer, “merged 5-digit scheme.” To use this new sortation option, it was proposed that mailers be required to use a new “Carrier Route Indicators” Field in the AMS City State Product to determine when such merged 5-digit or merged 5-digit scheme containers may be prepared.

The Postal Service is hereby amending that proposal by adding a new sack and pallet level, 5-digit scheme carrier routes, when Periodicals and Standard Mail (A) mailings are prepared using the new “Carrier Route Indicators” Field in the AMS City State Product with 5-digit scheme sortation using Labeling List L001 under proposed Domestic Mail Manual (DMM) sections M720.1.5, M720.1.7, M720.2.5, and M720.2.7 that were contained in the February 29 Federal Register (65 FR 10735).

The original proposed rule instructed mailers to prepare containers as follows if the City State Product indicates that mailers are not allowed to merge carrier route packages with 5-digit packages for any of the 5-digit ZIP Codes in an L001 scheme. For palletized mail, mailers were instructed to prepare a merged 5-digit scheme pallet containing carrier route packages for the scheme and a 5-digit scheme pallet containing the 5-digit packages of automation rate and Presorted rate packages. For sacked mail, mailers were instructed to prepare a merged 5-digit scheme sack(s) containing the carrier route packages for all 5-digit ZIP Codes in the scheme and to prepare separate 5-digit sacks containing packages of automation rate and Presorted rate mail for each 5-digit ZIP Code in the scheme.

The original proposal was to identify sacks and pallets containing only carrier route packages for a scheme as “merged” if they are created under DMM M720, even though the City State Product indicates that mailers may not merge carrier route packages with 5-digit packages for any of the 5-digit ZIP Codes in an L001 scheme. Upon further consideration, the Postal Service believes this proposal is inconsistent with the concept of “merging.” This amendment to the proposed rule ensures that a “merged” sack or pallet is created, and identified accordingly, only when there is the possibility, based on the “Carrier Route Indicators” field in the AMS City State Product, that carrier route packages are allowed to be merged with 5-digit automation and Presorted rate packages for at least one of the 5-digit ZIP Codes in a scheme.

In instances when no 5-digit ZIP Codes in a scheme are permitted to be merged with carrier route packages based on the “Carrier Route Indicators” field in the AMS City State product, the Postal Service is further proposing that mailers prepare and label any carrier route packages for the 5-digit ZIP Codes in the scheme as “5-digit scheme carrier routes” pallets or sacks. This new pallet and sack level is contained in amended DMM sections M720.1.5c, M720.1.7b, M7202.5c, and M720.2.7b set forth in this proposal. These new container levels would be also consistent with the contents and identification of scheme pallets containing only carrier route packages prepared under proposed DMM M045.4.1a and M045.4.2a, and of scheme sacks containing only carrier route packages prepared under current DMM M200.3.1c and M620.4.2c.

This notice also amends proposed DMM sections M720.1.5e, M720.1.7e, M720.1.7f, M720.2.5e, M720.2.7e, and M720.2.7f, to clarify that 5-digit carrier routes pallets and sacks would be prepared only for 5-digit ZIP Codes that are not part of a scheme in L001 and that have an indicator in the City State Product that does not allow co-containerization of carrier route packages and 5-digit packages. Proposed DMM sections M720.1.5f and M720.2.5f are also amended to clarify that 5-digit sacks would only prepared for 5-digit ZIP Codes that have an indicator in the City State Product that does not allow co-containerization of carrier route packages and 5-digit packages.

Although exempt from the notice and comment requirements of the Administrative Procedure Act (5 USC 553 (b), (c)) regarding rulemaking by 39 USC 410, the Postal Service hereby gives notice of the following proposed revisions to the Domestic Mail Manual (DMM), incorporated by reference in the Code of Federal Regulations (see 39 CFR Part 111).

List of Subjects in 39 CFR Part 111

Administrative practice and procedure, Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the Domestic Mail Manual (DMM) as set forth below:

Domestic Mail Manual

M720 Merged Containerization of Periodicals and Standard Mail (A) Carrier Route, Automation, and Presorted Rate Mail Packages for the Same 5-Digit ZIP Code or 5-Digit Scheme

1.0 PERIODICALS MAIL

* * * * *

[Amend proposed 1.5 to read as follows:]

1.5 Optional Sack Preparation and Labeling With Scheme Sort

When mailers choose to prepare mail under this option they must prepare sacks containing the individual carrier route and 5-digit packages from the carrier route, automation rate, and Presorted rate mailings in the mailing job in the following manner and sequence. All carrier route packages must be placed in sacks under 1.5a through e as described below. When sortation under this section is performed, merged 5-digit scheme sacks, 5-digit scheme carrier routes sacks, and merged 5-digit sacks must be prepared for all possible 5-digit schemes or 5-digit ZIP Codes as applicable, using L001 (merged 5-digit scheme and 5-digit scheme carrier routes sort only) and the Carrier Route Indicators field in the City State Product when there is enough volume for the 5-digit scheme or 5-digit ZIP Code to prepare such sacks under 1.5. Mailers must label sacks according to the Line 1 and Line 2 information listed below and under M032. If, due to the physical size of the mailpieces, the automation rate pieces are considered flat-size under C820 and the carrier route sorted pieces and Presorted rate pieces are considered irregular parcels under C050, “FLTS” must be shown as the processing category shown on the sack label. If a mailing job does not contain an automation rate mailing and the carrier route mailing and the Presorted rate mailing are irregular parcel shaped, use “IRREG” for the processing category on the contents line of the label.

a. Carrier Route. Required. May only contain carrier route packages. Must be prepared when there are 24 or more pieces for the same carrier route. Smaller volume not permitted.

(1) Line 1: use city, state abbreviation, and 5-digit ZIP Code destination (see M032 for military mail).

(2) Line 2: “PER” or “NEWS” as applicable, followed by “FLTS” or “IRREG” as applicable, followed by “CR” for basic rate, “WSH” for high density rate, or “WSS” for saturation rate, followed by the route type and number.

b. Merged 5-Digit Scheme. Required and permitted only when there is at least one 5-digit ZIP Code in the scheme for which the City State Product indicates carrier route packages may be co-containerized with 5-digit packages. May contain carrier route packages for any 5-digit ZIP Code(s) in a single scheme listed in L001 as well as automation rate 5-digit packages and Presorted rate 5-digit packages for those 5-digit ZIP Codes in the scheme that are also identified in the City State Product as eligible for co-containerization of carrier route packages and 5-digit packages. When preparation of this sack level is permitted, a sack must be prepared if there are any carrier route package(s) for the scheme. If there is not at least one carrier route package for any 5-digit destination in the scheme, preparation of this sack is required at 24 pieces in 5-digit packages for any of the 5-digit ZIP Codes in the scheme that are identified in the City State Product as eligible for co-containerization of carrier route packages and 5-digit packages, and is optional with one six-piece 5-digit package or at least one 5-digit package of fewer pieces for the scheme in L001 under 1.3 (for any ZIP Codes that are identified in the City State Product as eligible for co-containerization of carrier route packages and 5-digit packages). For a 5-digit ZIP Code(s) in a scheme for which the indicator in the City State Product does not allow co-containerization of carrier route packages and 5-digit packages, prepare a 5-digit sack(s) for the automation rate and Presorted rate packages under 1.5f. For 5-digit ZIP Codes not included in a scheme, prepare sacks under 1.5d through g.

(1) Line 1: use L001, Column B.

(2) Line 2: “PER” or “NEWS” as applicable, followed by “FLTS” or “IRREG” as applicable, followed by “CR/5D SCH.”

c. 5-Digit Scheme Carrier Routes. Required. May contain only carrier route packages for any 5-digit ZIP Code(s) in a single scheme listed in L001 when the indicator in the City State Product does not allow co-containerization of carrier route packages and 5-digit packages for any of the 5-digit ZIP Codes in the scheme. Must be prepared if there are any carrier route package(s) for the scheme.

(1) Line 1: use L001, Column B.

(2) Line 2: “PER” or “NEWS” as applicable, followed by “FLTS” or “IRREG” as applicable, followed by “CR-RTS SCH.”

d. Merged 5-Digit. Required. Must be prepared only for those 5-digit ZIP Codes that are not part of a scheme and that have an indicator in the City State Product that allows carrier route packages to be co-containerized with 5-digit packages. May contain carrier route packages, automation rate 5-digit packages, and Presorted rate 5-digit packages. Must be prepared if there are any carrier route packages for the 5-digit. If there is not at least one carrier route package for the 5-digit destination, preparation of this sack is required at 24 pieces in 5-digit packages for the same 5-digit destination, and is optional with one six piece package or at least one package of fewer pieces under 1.3.

(1) Line 1: use city, state abbreviation, and 5-digit ZIP Code destination (see M032 for military mail).

(2) Line 2: “PER” or “NEWS” as applicable, followed by “FLTS” or “IRREG” as applicable, followed by “CR/5D.”

e. 5-Digit Carrier Routes. Required. Sack only carrier route packages for a 5-digit ZIP Code remaining after preparing sacks under 1.5a through d to this level. May contain only carrier route packages for any 5-digit ZIP Code that is not part of a scheme listed in L001 and the indicator in the City State Product does not allow co-containerization of carrier route packages and 5-digit packages for the 5-digit ZIP Code. No sack minimum.

(1) Line 1: use city, state abbreviation, and 5-digit ZIP Code destination (see M032 for military mail).

(2) Line 2: “PER” or “NEWS” as applicable, followed by “FLTS” or “IRREG” as applicable, followed by “CR-RTS.”

f. 5-Digit. Required. May only contain automation rate 5-digit packages and Presorted rate 5-digit packages for any 5-digit ZIP Code when the indicator in the City State Product does not allow co-containerization of carrier route packages and 5-digit packages for the 5-digit ZIP Code. Must be prepared at 24 or more pieces, optional with one six-piece package or at least one package of fewer pieces under 1.3.

(1) Line 1 labeling: use city, state abbreviation, and 5-digit ZIP Code destination (see M032 for military mail).

(2) Line 2: “PER” or “NEWS” as applicable, followed by “FLTS 5D BC/NBC”, except if there are no automation rate packages in the mailing job, label under M200.3.2f.

g. Three-digit through mixed ADC sacks. Any 5-digit packages remaining after preparing sacks under 1.5a through f, and all 3-digit, ADC, and Mixed ADC packages, must be sacked and labeled according to the applicable requirements under M710.2.0 for co-sacking of automation rate and Presorted rate packages, except if there are no automation rate packages in the mailing job, sack and label under M200.3.0.

* * * * *

[Amend proposed 1.7 to read as follows:]

1.7 Optional Pallet Preparation and Labeling With Scheme (L001) Sort

When mailers choose to prepare mail under this option they must prepare pallets of packages and/or bundles in the manner and sequence listed below and under M041. When sortation under this option is performed, mailers must prepare all merged 5-digit scheme, 5-digit scheme carrier routes, 5-digit scheme, and merged 5-digit pallets that are possible in the mailing based on the volume of mail to the destination using L001 and/or the City State Product as applicable. Mailers must label pallets according to the Line 1 and Line 2 information listed below and under M031. If, due to the physical size of the mailpieces, the automation rate pieces are considered flat-size under C820 and the carrier route sorted pieces and Presorted rate pieces are considered irregular parcels under C050, “FLTS” must be shown as the processing category shown on the sack label. If a mailing contains no automation rate pieces and the carrier route mailing and the Presorted rate mailing are irregular parcel shaped, use “IRREG” for the processing category on the contents line of the label.

a. Merged 5-Digit Scheme. Required and permitted only when there is at least one 5-digit ZIP Code in the scheme for which the City State Product indicates carrier route packages may be co-containerized with 5-digit packages. May contain carrier route packages for any 5-digit ZIP Code(s) in a single scheme listed in L001 as well as automation rate 5-digit packages and Presorted rate 5-digit packages for those 5-digit ZIP Codes in the scheme that are also identified in the City State Product as eligible for co-containerization of carrier route packages and 5-digit packages.

(1) Line 1: use L001, Column B.

(2) Line 2: “PER” or “NEWS” as applicable, followed by “FLTS” or “IRREG” as applicable, followed by “CR/5D SCHEME.”

b. 5-Digit Scheme Carrier Routes. Required. May contain only carrier route packages and bundles for all carrier routes in an L001 scheme when the indicator in the City State Product does not allow co-containerization of carrier route packages and 5-digit packages for any of the 5-digit ZIP Codes in the scheme.

(1) Line 1: use L001, Column B.

(2) Line 2: “PER” or “NEWS” as applicable, followed by “FLTS” or “IRREG” as applicable, followed by “CR-RTS SCHEME.”

c. 5-Digit Scheme. Required. May contain only 5-digit packages and bundles of automation rate and Presorted rate mail for the same 5-digit scheme under L001 for ZIP Codes in the scheme that have an indicator in the City State Product that does not allow carrier route packages to be co-containerized with 5-digit packages.

(1) Line 1: use L001, Column B.

(2) Line 2: “PER” or “NEWS” as applicable, followed by “FLTS” or “IRREG” as applicable, followed by “5D,” followed by “BARCODED” or “BC” if the pallet contains automation rate mail, followed by “NONBARCODED” or “NBC” if the pallet contains Presorted rate mail, followed by “SCHEME” or “SCH.”

d. Merged 5-Digit. Required. May contain carrier route packages and bundles, automation rate 5-digit packages and bundles, and Presorted rate 5-digit packages and bundles for those 5-digit ZIP Codes that are not part of a scheme and that have an indicator in the City State Product that allows co-containerization of carrier route packages and 5-digit packages.

(1) Line 1: use city, state abbreviation, and 5 -digit ZIP Code destination (see M031 for military mail).

(2) Line 2: “PER” or “NEWS” as applicable, followed by “FLTS” or IRREG” as applicable, followed by “CR/5D.”

e. 5-Digit Carrier Routes. Required. May contain only carrier route rate packages and bundles for the same 5-digit ZIP Code that is not part of a scheme and that has an indicator in the City State Product that does not allow co-containerization of carrier route packages and 5-digit packages.

(1) Line 1: use city, state abbreviation, and 5-digit ZIP Code destination (see M031 for military mail).

(2) Line 2: “PER” or “NEWS” as applicable, followed by “FLTS” or “IRREG” as applicable, followed by “CARRIER ROUTES” or “CR-RTS.”

f. 5-Digit. Required. May contain only automation rate 5-digit packages and bundles and Presorted rate 5-digit packages and bundles for the same 5-digit ZIP Code that is not part of a scheme and that has an indicator in the City State Product that does not allow co-containerization of carrier route packages and 5-digit packages.

(1) Line 1: use city, state abbreviation, and 5-digit ZIP Code destination (see M031 for military mail).

(2) Line 2: “PER” or “NEWS” as applicable, followed by “FLTS” or “IRREG” as applicable, followed by “5D,” followed by “BARCODED” or “BC” if the pallet contains automation rate mail, and followed by “NONBARCODED” or “NBC” if the pallet contains Presorted rate mail.

g. 3-Digit. Optional. May contain carrier route rate, automation rate, and Presorted rate packages and bundles.

(1) Line 1: use L002, Column A.

(2) Line 2: “PER” or “NEWS” as applicable, followed by “FLTS” or “IRREG” as applicable, followed by “3D,” followed by “DDU” if DDU rates are claimed, followed by “DSCF” if SCF rates are claimed, followed by “BARCODED” or “BC” if the pallet contains automation rate mail, and followed by “NONBARCODED” or “NBC” if the pallet contains Presorted rate mail.

h. SCF. Required. May contain carrier route rate, automation rate, and Presorted rate packages and bundles.

(1) Line 1: use L002, Column C.

(2) Line 2: “PER” or “NEWS” as applicable, followed by “FLTS” or “IRREG” as applicable, followed by “SCF,” followed by “DDU” if DDU rates are claimed, followed by “DSCF” if SCF rates are claimed, followed by “BARCODED” or “BC” if the pallet contains automation rate mail, and followed by “NONBARCODED” or “NBC” if the pallet contains Presorted rate mail.

i. ADC. Required. May contain carrier route rate, automation rate, and Presorted rate packages and bundles.

(1) Line 1: use L004.

(2) Line 2: “PER” or “NEWS” as applicable, followed by “FLTS” or “IRREG” as applicable, followed by “ADC,” followed by “BARCODED” or “BC” if the pallet contains automation rate mail, and followed by “NONBARCODED” or “NBC” if the pallet contains Presorted rate mail.

2.0 STANDARD MAIL (A)

* * * * *

[Amend proposed 2.5 to read as follows:]

2.5 Optional Sack Preparation and Labeling With Scheme Sort

When mailers choose to prepare mail under this option they must prepare sacks containing the individual carrier route and 5-digit packages from the carrier route rate, automation rate, and Presorted rate mailings in the mailing job in the following manner and sequence. All carrier route packages must be placed in sacks under 2.5a through e as described below. When sortation under this section is performed, merged 5-digit scheme sacks, 5-digit scheme carrier routes sacks, and merged 5-digit sacks must be prepared for all possible 5-digit schemes or 5-digit ZIP Codes as applicable, using L001 (merged 5-digit scheme and 5-digit scheme carrier routes sort only) and the Carrier Route Indicators field in the City State Product when there is enough volume for the 5-digit scheme or 5-digit ZIP Code to prepare such sacks under 2.5. Mailers must label sacks according to the Line 1 and Line 2 information listed below and under M032.

a. Carrier Route. Required. May only contain carrier route packages. Must be prepared when there are 125 pieces or 15 pounds of pieces for the same carrier route. Smaller volume not permitted.

(1) Line 1 labeling: use city, state abbreviation, and 5-digit ZIP Code destination (see M032 for military mail).

(2) Line 2 labeling: “STD FLTS” followed by “ECRLOT,” “ECRWSH” or “ECRWSS” as applicable for basic, high density, and saturation rate mail, followed by the route type and number.

b. Merged 5-Digit Scheme. Required and permitted only when there is at least one 5-digit ZIP Code in the scheme for which the City State Product indicates carrier route packages may be co-containerized with 5-digit packages. May contain carrier route packages for any 5-digit ZIP Code(s) in a single scheme listed in L001 as well as automation rate 5-digit packages and Presorted rate 5-digit packages for those 5-digit ZIP Codes in the scheme that are also identified in the City State Product as eligible for co-containerization of carrier route packages and 5-digit packages. When preparation of this sack level is permitted, a sack must be prepared if there are any carrier route package(s) for the scheme. If there is not at least one carrier route package for any 5-digit destination in the scheme, preparation of this sack is required when there are at least 125 pieces or 15 pounds of pieces in 5-digit packages for any of the 5-digit ZIP Codes in the scheme that are identified in the City State Product as eligible for co-containerization of carrier route packages and 5-digit packages (smaller volume not permitted). For a 5-digit ZIP Code(s) in a scheme for which the indicator in the City State Product does not allow co-containerization of carrier route packages and 5-digit packages, prepare a 5-digit sack(s) for the automation rate and Presorted rate packages under 2.5f. For 5-digit ZIP Codes not included in a scheme, prepare sacks under 2.5d through g.

(1) Line 1: use L001, Column B.

(2) Line 2: “STD FLTS CR-RTS SCH.”

c. 5-Digit Scheme Carrier Routes. 5-Digit Scheme Carrier Routes. Required. May contain only carrier route packages for any 5-digit ZIP Code(s) in a single scheme listed in L001 when the indicator in the City State Product does not allow co-containerization of carrier route packages and 5-digit packages for any of the 5-digit ZIP Codes in the scheme. Must be prepared if there are any carrier route package(s) for the scheme.

(1) Line 1: use L001, Column B.

(2) Line 2: “STD FLTS CR-RTS SCH.”

d. Merged 5-Digit. Required. Must be prepared only for those 5-digit ZIP Codes that are not part of a scheme and that have an indicator in the City State Product that allows carrier route packages to be co-containerized with 5-digit packages. May contain carrier route packages, automation rate 5-digit packages, and Presorted rate 5-digit packages. Must be prepared if there are any carrier route packages for the 5-digit. If there is not at least one carrier route package for the 5-digit destination, must be prepared when there are at least 125 pieces or 15 pounds of pieces in 5-digit packages for the same 5-digit destination (smaller volume not permitted).

(1) Line 1: use city, state abbreviation, and 5-digit ZIP Code destination (see M032 for military mail).

(2) Line 2: “STD FLTS CR-5D.”

e. 5-Digit Carrier Routes. Required. Sack only carrier route packages for a 5-digit ZIP Code remaining after preparing sacks under 2.5a through d to this level. May contain only carrier route packages for any 5-digit ZIP Code that is not part of a scheme listed in L001 and the indicator in the City State Product does not allow co-containerization of carrier route packages and 5-digit packages for the 5-digit ZIP Code. No sack minimum.

(1) Line 1: use city, state abbreviation, and 5-digit ZIP Code destination (see M032 for military mail).

(2) Line 2: “STD FLTS CR-RTS.”

f. 5-Digit. Required. May only contain automation rate 5-digit packages and Presorted rate 5-digit packages for any 5-digit ZIP Code when the indicator in the City State Product does not allow co-containerization of carrier route packages and 5-digit packages for the 5-digit ZIP Code. Must be prepared when there are at least 125 pieces or 15 pounds of pieces for the 5-digit ZIP Code. Smaller volume not permitted.

(1) Line 1: use city, state abbreviation, and 5-digit ZIP Code destination (see M032 for military mail).

(2) Line 2: “STD FLTS 5D BC/NBC,” except if there are no automation rate packages in the mailing job use “STD FLTS 5D NON BC.”

g. Three-digit through Mixed AADC Sacks. Any 5-digit packages remaining after preparing sacks under 2.5 a through f, and all 3-digit, ADC, and Mixed ADC packages, must be sacked and labeled according to the applicable requirements under M710.3.0 for co-sacking of automation rate and Presorted rate packages, except if there are no automation rate packages in the mailing job, sack and label under M610.

* * * * *

[Amend proposed 2.7 to read as follows:]

2.7 Optional Pallet Preparation and Labeling With Scheme (L002) Sort

When mailers choose to prepare mail under this option they must prepare pallets of packages and/or bundles in the manner and sequence listed below and under M041. When sortation under this option is performed, mailers must prepare all merged 5-digit scheme, 5-digit scheme carrier routes, 5-digit scheme, and merged 5-digit pallets that are possible in the mailing based on the volume of mail to the destination using L001 and/or the City State Product as applicable. Mailers must label pallets according to the Line 1 and Line 2 information listed below and under M031.

a. Merged 5-Digit Scheme. Required and permitted only when there is at least one 5-digit ZIP Code in the scheme for which the City State Product indicates carrier route packages may be co-containerized with 5-digit packages. May contain carrier route packages for any 5-digit ZIP Code(s) in a single scheme listed in L001 as well as automation rate 5-digit packages and Presorted rate 5-digit packages for those 5-digit ZIP Codes in the scheme that are also identified in the City State Product as eligible for co-containerization of carrier route packages and 5-digit packages. When preparation of this sack level is permitted, a sack must be prepared if there are any carrier route package(s) for the scheme. For 5-digit ZIP Codes in a scheme for which the indicator in the Carrier Route Indicators field does not allow co-containerization of carrier route and 5-digit packages, begin preparing pallets under 2.7c (5-digit scheme pallet). For 5-digit ZIP Codes not included in a scheme, begin preparing pallets under 2.7d (merged 5-digit pallet).

(1) Line 1: labeling: use L001, Column B.

(2) Line 2: “STD FLTS CR-5D SCHEME.”

b. 5-Digit Scheme Carrier Routes. Required. May contain only carrier route packages and bundles for all carrier routes in an L001 scheme when the indicator in the City State Product does not allow co-containerization of carrier route packages and 5-digit packages for any of the 5-digit ZIP Codes in the scheme.

(1) Line 1: use L001, Column B.

(2) Line 2: “STD FLTS CR-RTS SCHEME.”

c. 5-Digit Scheme. Required. May contain 5-digit packages and bundles of automation rate and 5-digit Presorted rate mail for the same 5-digit scheme under L001 for ZIP Codes in the scheme that do not have an indicator in the City State Product that allows co-containerization of carrier route packages and 5-digit packages.

(1) Line 1: use L001, Column B.

(2) Line 2: STD FLTS 5D,” followed by “BARCODED” or “BC” if the pallet contains automation rate mail, followed by “NONBARCODED” or “NBC” if the pallet contains Presorted rate mail, followed by “SCHEME” or “SCH.”

d. Merged 5-Digit. Required. May contain carrier route rate packages and bundles, automation rate 5-digit packages and bundles, and Presorted rate 5-digit packages and bundles for those 5-digit ZIP Codes that are not part of a scheme and that have an indicator in the City State Product that allows co-containerization of carrier route packages and 5-digit packages.

(1) Line 1: use city, state abbreviation, and 5-digit ZIP Code destination (see M031 for military mail).

(2) Line 2: “STD FLTS CR/5D.”

e. 5-Digit Carrier Routes. Required. May contain only carrier route rate packages and bundles for the same 5-digit ZIP Code for those 5-digit ZIP Codes that are not part of a scheme and that have an indicator in the City State Product that does not allow co-containerization of carrier route packages and 5-digit packages.

(1) Line 1: use city, state abbreviation, and 5-digit ZIP Code destination (see M031 for military mail).

(2) Line 2: “STD FLTS,” followed by “CARRIER ROUTES” or “CR-RTS.”

f. 5-Digit. Required. May contain automation rate 5-digit packages and bundles and Presorted rate 5-digit packages and bundles for the same 5-digit ZIP Code for those 5-digit ZIP Codes that are not part of a scheme and that have an indicator in the City State Product that does not allow co-containerization of carrier route packages and 5-digit packages.

(1) Line 1: use city, state abbreviation, and 5-digit ZIP Code destination (see M031 for military mail).

(2) Line 2: “STD FLTS 5D,” followed by “BARCODED” or “BC” if the pallet contains automation rate mail, and followed by “NONBARCODED” or “NBC” if the pallet contains Presorted rate mail.

g. 3-Digit. Optional. May contain carrier route rate, automation rate, and Presorted rate packages and bundles.

(1) Line 1: use L002, Column A.

(2) Line 2: “STD FLTS 3D,” followed by “DDU” if DDU rates are claimed, followed by “DSCF” if DSCF rates are claimed, followed by “BARCODED” or “BC” if the pallet contains automation rate mail, and followed by “NONBARCODED” or “NBC” if the pallet contains Presorted rate mail.

h. SCF: Required. May contain carrier route rate, automation rate, and Presorted rate packages and bundles.

(1) Line 1: use L002, Column C.

(2) Line 2: “STD FLTS SCF;” followed by “DDU” if DDU rates are claimed, followed by “DSCF” if DSCF rates are claimed; followed by “BARCODED” or “BC” if the pallet contains automation rate mail; and followed by “NONBARCODED” or “NBC” if the pallet contains Presorted rate mail.

i. If DBMC rates are not claimed: Destination BMC. Required. May contain carrier route rate, automation rate, and Presorted rate packages and bundles. Sort ADC packages and bundles to BMC pallets based on the “label to” ZIP Code shown for the ADC of the package or bundle in L004.

(1) Line 1: use L601.

(2) Line 2: “STD FLTS BMC,” followed by “BARCODED” or “BC” if the pallet contains automation rate mail, and followed by “NONBARCODED” or “NBC” if the pallet contains Presorted rate mail.

j. If DBMC rates are claimed: Destination ASF/BMC. May contain carrier route rate, automation rate, and Presorted rate packages and bundles. Destination ASF sortation allowed and required only if DBMC rate is claimed for mail deposited at an ASF, otherwise sort to Destination BMC. Sort ADC packages and bundles to ASF/BMC pallets based on the “label to” ZIP Code shown for the ADC of the package or bundle in L004.

(1) Line 1: use L602.

(2) Line 2: “STD FLTS,” followed by “ASF” or “BMC” as applicable; followed by “BARCODED” or “BC” if the pallet contains automation rate mail; and followed by “NONBARCODED” or “NBC” if the pallet contains Presorted rate mail.

An appropriate amendment to 39 CFR 111.3 will be published to reflect these changes if the proposal is adopted.

Stanley F. Mires,
Chief Counsel, Legislative.

[FR Doc. 00-7838 Filed 3-29-00; 8:45 am]

BILLING CODE 7710-12-P